DEPARTMENT OF HOMELAND SECURITY

Coast Guard

[USCG-2006-24796]

Towing Safety Advisory Committee

AGENCY: Coast Guard, DHS.

ACTION: Notice of meetings.

SUMMARY: The Towing Vessel Inspection Working Group of the Towing Safety Advisory Committee (TSAC) will meet to discuss matters relating to these specific issues of towing safety. The meetings will be open to the public.

DATES: The Towing Vessel Inspection Working Group will meet on Wednesday, July 19, 2006 from 9 a.m. to 4:30 p.m. and on Thursday, July 20, 2006 from 8:30 a.m. to 1 p.m. The meetings may close early if all business is finished. Written material and requests to make oral presentations should reach the Coast Guard on or before July 7, 2006. Requests to have a copy of your material distributed to each member of the Working Group should reach the Coast Guard on or before July 7, 2006.

ADDRESSES: The Working Group will meet at the Holiday Inn Rosslyn @ Key Bridge, 1900 North Fort Myer Drive, Arlington, VA 22209. Please bring a government-issued ID with photo (e.g. driver's license). Send written material and requests to make oral presentations to Mr. Gerald Miante, Commandant (G-PSO-1), U.S. Coast Guard Headquarters, 2100 Second Street, SW., Washington, DC 20593-0001. This notice and related documents are available on the Internet at http://dms.dot.gov under the docket number USCG-2006-24796.

FOR FURTHER INFORMATION CONTACT: Mr. Gerald Miante, Assistant Executive Director of TSAC, telephone 202-372-1401, fax 202-372-1926, or e-mail gmiante@comdt.uscg.mil.

SUPPLEMENTARY INFORMATION: Notice of these meetings is given under the Federal Advisory Committee Act, 5 U.S.C. App. 2 (Pub. L. 92-463, 86 Stat.770, as amended).

Agenda of Working Group Meetings:

The agenda for the Towing Vessel Inspection Working Group tentatively includes the following items:

(1) What level of detail for electrical, propulsion and steering systems should be included in a Title 46, Code of Federal Regulations subchapter devoted to the inspection and certification of towing vessels?

(2) Should standards differ for small vessels including; towing vessels under 26 feet, small workboats/tenders not engaged in commercial towing for hire; and assistance towing vessels?

(3) What are the potential conflicts of interest relative to auditor duties?

(4) Identify and clarify possible definitions of geographical applicability terms used throughout the TSAC report.

Procedural

The meetings are open to the public. Please note that the meetings may close early if all business is finished. At the Chair's discretion, members of the public may make oral presentations during the meeting. If you would like to make an oral presentation at the meeting, please notify the Assistant Executive Director (as provided above in FOR FURTHER INFORMATION CONTACT) no later than July 7, 2006. Written material for distribution at the meeting should reach the Coast Guard no later than July 7, 2006.

Information on Services for Individuals With Disabilities

For information on facilities or services for individuals with disabilities or to request special assistance at the meeting, contact Mr. Miante at the number listed in FOR FURTHER INFORMATION CONTACT as soon as possible.

Dated: May 15 2006.
L.W. Thomas III,
Acting Director of Standards, Assistant Commandant for Prevention.

[FR Doc. E6-7860 Filed 5-23-06; 8:45 am]

BILLING CODE 4910-15-P